COMMISSION ON CIVIL RIGHTS

Notice of Public Meeting of the Wyoming Advisory Committee; Correction

AGENCY: Commission on Civil Rights.

ACTION: Notice; revision to meeting link & meeting ID.

SUMMARY: The Commission on Civil Rights published a notice in the Federal Register on Wednesday, August 10, 2022, concerning a meeting of the Wyoming Advisory Committee. The meeting link and meeting ID have since been updated.

FOR FURTHER INFORMATION CONTACT: Kayla Fajota, 434-515-2395, kfajota@usccr.gov.

Correction: In the Federal Register on Wednesday, August 10, 2022, in FR Document Number 2022-17165, on page 48620, third column, correct the meeting link to: https://tinyurl.com/5fytusya; correct the meeting ID to: 161 696 6905; correct the phone number to: (833) 435-1820.

Dated: August 30, 2022.
David Mussatt,
Supervisory Chief, Regional Programs Unit.

[FR Doc. 2022-19070 Filed 9-2-22; 8:45 am]

BILLING CODE 6335-01-P